DEPARTMENT OF COMMERCE

International Trade Administration

University of North Dakota; Notice of Decision on Application for Duty-Free Entry of Scientific Instrument

This decision is made pursuant to Section 6(c) of the Educational, Scientific, and Cultural Materials Importation Act of 1966 (Pub. L. 89-651, 80 Stat. 897; 15 CFR part 301). Related records can be viewed between 8:30 a.m. and 5 p.m. in Room 4211, U.S. Department of Commerce, 14th and Constitution Avenue, N.W., Washington, D.C.

Docket Number: 00-003. Applicant: University of North Dakota, Grand Forks, ND 58202-7129. Instrument: Scanning Tunneling Microscope, Model STM 25. Manufacturer: Omicron Associates, Germany. Intended Use: See notice at 65 FR 11986, March 7, 2000.

Comments: None received. Decision: Approved. No instrument of equivalent scientific value to the foreign instrument, for such purposes as it is intended to be used, is being manufactured in the United States. Reasons: The foreign instrument provides: (1) ability to operate at temperatures as low as 25°K, (2) a vibrationally-isolated vacuum chamber capable to 10 −11 mbar and (3) conduction of electron-tunneling spectroscopy measurements using the STM. The National Institute of Standards and Technology and a university research center for advanced microstructure devices advise that (1) these capabilities are pertinent to the applicant's intended purpose and (2) they know of no domestic instrument or apparatus of equivalent scientific value to the foreign instrument for the applicant's intended use (comparable case).

We know of no other instrument or apparatus of equivalent scientific value to the foreign instrument which is being manufactured in the United States.

Frank W. Creel,
Director, Statutory Import Programs Staff.

[FR Doc. 00-9996 Filed 4-20-00; 8:45 am]

BILLING CODE 3510-DS-P